DEPARTMENT OF TRANSPORTATION

Federal Aviation Administration

14 CFR Part 73

[Airspace Docket No. 00-AWP-13]

Proposed Establishment and Redesignation of Restricted Areas; NV

AGENCY: Federal Aviation Administration (FAA), DOT.

ACTION: Notice of proposed rulemaking (NPRM).

SUMMARY: This action proposes to redesignate Restricted Area (R) 4804 Twin Peaks, NV, as R-4804A, and establish R-4804B from FL 180 to FL 350. Additionally, this action proposes to redesignate R-4813 Carson Sink, NV, as R-4813A, and establish R-4813B from FL 180 to FL 350. This action also proposes to revoke R-4802 Lone Rock, NV, and designate the U.S. Navy (USN) Naval Strike and Warfare Center Fallon, NV, as the using agency for R-4804A, R-4804B, R-4813A, and R-4813B.

DATES: Comments must be received on or before February 1, 2001.

ADDRESSES: Send comments on the proposal in triplicate to: Manager, Air Traffic Division, AWP-500, Docket No. 00-AWP-13, Federal Aviation Administration, 15000 Aviation Boulevard, Lawndale, CA 90261.

The official docket may be examined in the Rules Docket, Office of the Chief Counsel, Room 916, 800 Independence Avenue, SW., Washington, DC, weekdays, except Federal holidays, between 8:30 a.m. and 5 p.m. An informal docket may also be examined during normal business hours at the office of the Regional Air Traffic Division, Federal Aviation Administration, 15000 Aviation Boulevard, Lawndale, CA 90261.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above.

Commenters wishing the FAA to acknowledge receipt of their comments on this action must submit with those comments a self-addressed, stamped postcard on which the following statement is made: “Comments to Airspace Docket No. 00-AWP-13.” The postcard will be date/time stamped and returned to the commenter. Send comments on environmental and land-use aspects to: Field Manager, Bureau of Land Management 5665 Morgan Mill Road, Carson City, NV 89701 ATTN: Navy EIS Project Manager. All communications received on or before the specified closing date for comments will be considered before taking action on the proposed rule. The proposal contained in this action may be changed in light of comments received. All comments submitted will be available for examination in the Rules Docket both before and after the closing date for comments. A report summarizing each substantive public contact with FAA personnel concerned with this rulemaking will be filed in the docket.

Availability of NPRM's

An electronic copy of this document may be downloaded, using a modem and suitable software, from the FAA regulations section of the Fedworld electronic bulletin board service (telephone: 703-321-3339) or the Federal Register's electronic bulletin board service (telephone: 202-512-1661).

Internet users may reach the FAA's web page at http://www.faa.gov or the Superintendent of Document's web page at http://www.access.gpo.gov/nara for access to recently published rulemaking documents.

Any person may obtain a copy of this NPRM by submitting a request to the Federal Aviation Administration, Office of Air Traffic Airspace Management, ATA-400, 800 Independence Avenue, SW., Washington, DC 20591, or by calling (202) 267-8783. Communications must identify the notice number of this NPRM. Persons interested in being placed on a mailing list for future NPRM's should call the FAA's Office of Rulemaking, (202) 267-9677, for a copy of Advisory Circular No. 11-2A, Notice of Proposed Rulemaking Distribution System, which describes the application procedure.

The Proposal

This action proposes to redesignate R-4804 Twin Peaks, NV, as R-4804A, and establish R-4804B from FL 180 to FL 350. Additionally, this action proposes to redesignate R-4813 Carson Sink, NV, as R-4813A, and establish R-4813B from FL 180 to FL 350. The proposed establishing of restricted areas (R-4804B and R-4813B respectively) would increase the vertical limits of two existing restricted areas but would not increase the lateral boundaries of the existing airspace. This action also proposes to revoke R-4802 Lone Rock, NV, and designate the USN Naval Strike and Warfare Center Fallon, NV, as the using agency for R-4804A, R-4804B, R-4813A, and R-4813B.

The USN is requesting these modifications to meet the Chief of Naval Operations training requirements resulting from a real world threat environment that requires flight crews to develop and maintain an ability to deliver ordnance (bombs, missiles, bullets, etc.) from high altitudes.

The FAA has determined that this regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The coordinates for this airspace docket are based on North American Datum 83. Section 73.48 of part 73 of the Federal Aviation Regulations was republished in FAA Order 7400.8H dated September 1, 2000.

Environmental Review

This proposal will be subjected to further environmental review prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for 14 CFR part 73 continues to read as follows:

Authority: 49 U.S.C. 106(g), 40103, 40113, 40120; E.O. 10854, 24 FR 9565, 3 CFR, 1959-1963 Comp., p. 389.

§ 73.32 [Amended]

2. Section 73.48 is amended as follows:

* * * * *

R-4802 Lone Rock, NV [Revoke]

R-4804 Twin Peaks, NV [Revoke]

R-4813 Carson Sink, NV [Revoke]

R-4804A Twin Peaks, NV [New]

Boundaries. A 5-nautical-mile radius circle centered at lat. 39°13′00″ N., long. 118°12′45″ W.; and a 3-nautical-mile radius centered at lat. 39°14′15″ N., long. 118°17′33″ W.

Designated altitudes. Surface to but not including FL 180 excluding 2,000 feet AGL up to but not including 8,500 feet MSL, north of and within 1 NM of U.S. Highway 50 between the intersection of U.S. Highway 50 with long. 118°26′00″ W., and long. 118°08′00″ W.

Controlling agency. FAA, Oakland ARTCC.

Using agency. USN Naval Strike and Warfare Center Fallon, NV.

R-4804B Twin Peaks, NV [New]

Boundaries. A 5-nautical-mile radius circle centered at lat. 39°13′00″ N., long. 118°12′45″ W.; and a 3-nautical-mile radius centered at lat. 39°14′15″ N., long. 118°17′33″ W.;

Designated altitudes. FL 180 to and including FL 350.

Times of use. Intermittent by NOTAM 0715-2330 local time, daily.

Controlling agency. FAA Oakland, ARTCC.

Using agency. USN Naval Strike and Warfare Center Fallon, NV.

R-4813A Carson Sink, NV [New]

Boundaries. Beginning at lat. 39°51′00″ N., Long. 118°38′04″ W.; to lat. 40°01′00″ N., long. 118°15′04″ W.; to lat. 40°01′00″ N., long. 118°01′03″ W.; to lat. 39°58′00″ N., long. 118°01′03″ W.; to lat. 39°38′00″ N., long. 118°17′03″ W.; thence via the arc of a 15 NM radius circle centered at lat. 39°52′36″ N., long. 118°20′31″ W.; to lat. 39°45′50″ N., long. 118°38′04″ W.; thence to point of beginning.

Designated altitudes. Surface to but not including FL 180.

Times of use. 0715-2330 local time, daily.

Controlling agency. FAA Oakland, ARTCC.

Using agency. USN Naval Strike and Warfare Center Fallon, NV.

R-4813B Carson Sink, NV [New]

Boundaries. Beginning at lat. 39°51′00″ N., Long. 118°38′04″ W.; to lat. 40°01′00″ N., long. 118°15′04″ W.; to lat. 40°01′00″ N., long. 118°01′03″ W.; to lat. 39°58′00″ N., long. 118°01′03″ W.; to lat. 39°38′00″ N., long. 118°17′03″ W.; thence via the arc of a 15 NM radius circle centered at lat. 39°52′36″ N., long. 118°20′31″ W.; to lat. 39°45′50″ N., long. 118°38′04″ W.; thence to point of beginning.

Designated altitudes. FL 180 to and including FL 350.

Times of use. Intermittent by NOTAM 0715-2330 local time, daily.

Controlling agency. FAA Oakland, ARTCC.

Using agency. USN Naval Strike and Warfare Center Fallon, NV.

* * * * *

Issued in Washington, DC, on December 12, 2000.
Reginald C. Matthews,
Manager, Airspace and Rules Division.

[FR Doc. 00-32177 Filed 12-15-00; 8:45 am]

BILLING CODE 4910-13-P